DEPARTMENT OF ENERGY

Federal Energy Regulatory Commission

Combined Notice Of Filings #1

November 9, 2007.

Take notice that the Commission has received the following Natural Gas Pipeline Rate and Refund Report filings:

Docket Numbers: RP00-70-016.

Applicants: Algonquin Gas Transmission Company.

Description: Algonquin Gas Transmission, LLC submits Original Sheet 87 et al. to FERC Gas Tariff, Fifth Revised Volume 1.

Filed Date: 11/02/2007.

Accession Number: 20071106-0038.

Comments Date: 5 p.m. Eastern Time on Wednesday, November 14, 2007.

Docket Numbers: RP99-176-143.

Applicants: Natural Gas Pipeline Co of America.

Description: Natural Gas Pipeline Company of America submits its Sixth Revised Sheet 26C et al to FERC Gas Tariff, Sixth Revised Volume 1, effective 11/02/07.

Filed Date: 11/06/2007.

Accession Number: 20071106-0199.

Comments Date: 5 p.m. Eastern Time on Monday, November 19, 2007.

Docket Numbers: RP06-200-038.

Applicants: Rockies Express Pipeline LLC.

Description: Rockies Express Pipeline LLC submits its Original. Sheet 8D to its FERC Gas Tariff, Second Revised Volume 1, to become effective 11/7/07.

Filed Date: 11/06/2007.

Accession Number: 20071107-0108.

Comments Date: 5 p.m. Eastern Time on Monday, November 19, 2007.

Docket Numbers: RP06-407-007.

Applicants: Gas Transmission Northwest Corporation.

Description: Gas Transmission Northwest Corp submits Twelfth Revised Sheet 4 et al. to FERC Gas Tariff, Third Revised Volume 1-A to be effective 11/1/07.

Filed Date: 10/31/2007.

Accession Number: 20071101-0118.

Comments Date: 5 p.m. Eastern Time on Tuesday, November 13, 2007.

Docket Numbers: RP07-706-001.

Applicants: Colorado Interstate Gas Company.

Description: Colorado Interstate Gas Co submits Second Revised Sheet 380E to FERC Gas Tariff, First Revised Volume 1, effective 11/1/07.

Filed Date: 11/06/2007.

Accession Number: 20071108-0053.

Comments Date: 5 p.m. Eastern Time on Monday, November 19, 2007.

Docket Numbers: RP07-707-001.

Applicants: El Paso Natural Gas Company.

Description: El Paso Natural Gas Co submits First Revised Sheet 150D to its FERC Gas Tariff, Second Revised Volume 1-A, to be effective 11/1/07.

Filed Date: 11/06/2007.

Accession Number: 20071108-0052.

Comments Date: 5 p.m. Eastern Time on Monday, November 19, 2007.

Docket Numbers: RP08-17-001.

Applicants: Blue Lake Gas Storage Company.

Description: Blue Lake Gas Storage Company submits Substitute Second Revised Sheet 146 to FERC Gas Tariff, First Revised Volume 1 to be effective 11/1/07.

Filed Date: 11/07/2007.

Accession Number: 20071109-0001.

Comments Date: 5 p.m. Eastern Time on Monday, November 19, 2007.

Docket Numbers: RP08-58-000.

Applicants: Transcontinental Gas Pipe Line Corp.

Description: Transcontinental Gas Pipe Line Corporation submits its Tenth Revised Sheet 30 to its FERC Gas Tariff, Third Revised Volume 1, to become effective 12/6/07.

Filed Date: 11/06/2007.

Accession Number: 20071107-0107.

Comments Date: 5 p.m. Eastern Time on Monday, November 19, 2007.

Docket Numbers: RP08-59-000.

Applicants: Columbia Gas Transmission Corporation.

Description: Columbia Gas Transmission Corporation submits Twenty—Third Revised Sheet 29 et al. to FERC Gas Tariff, Second Revised Volume 1, effective 12/10/07.

Filed Date: 11/07/2007.

Accession Number: 20071108-0055.

Comments Date: 5 p.m. Eastern Time on Monday, November 19, 2007.

Docket Numbers: RP08-61-000.

Applicants: Northwest Pipeline Corporation.

Description: Northwest Pipeline GP submits Thirty-Third Revised Sheet 5 et al. to FERC Gas Tariff, Third Revised Volume 1.

Filed Date: 11/08/2007.

Accession Number: 20071109-0079

Comments Date: 5 p.m. Eastern Time on Tuesday, November 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Acting Deputy Secretary.

[FR Doc. E7-22391 Filed 11-15-07; 8:45 am]

BILLING CODE 6717-01-P